DEPARTMENT OF VETERANS AFFAIRS

Commission on Care

ACTION: Notice of Meeting

In accordance with the Federal Advisory Committee Act, 5 U.S.C., App. 2, the Commission on Care gives notice that it will meet on Tuesday, February 9, 2016, at the American Legion National Headquarters Office, 1608 K Street NW., 7th Floor Conference Room, Washington, DC, 20006. The meeting will convene at 8:30 a.m. and end no later than 5:30 p.m. This meeting notice is being provided with less than 15 calendar days of notice due to inclement weather, which delayed the meeting's final confirmation. The meeting is open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

No time will be allocated at this meeting for receiving oral presentations from the public. The public may submit written statements for the Commission's review to commissiononcare@va.gov. Due to building security requirements, any member of the public wanting to attend must register their intention by emailing the Designated Federal Officer, John Goodrich, at john.goodrich@va.gov, no later than 5:00 p.m. on Friday, February 5, 2016.

Dated: January 28, 2016.
John Goodrich,
Designated Federal Officer, Commission on Care.

[FR Doc. 2016-01829 Filed 2-1-16; 8:45 am]

BILLING CODE 8320-01-P